DEPARTMENT OF ENERGY

Federal Energy Regulatory Commission

[Docket No. RP03-242-000]

Petal Gas Storage, L.L.C. ; Notice of Tariff Filing

February 11, 2003.

Take notice that on January 27, 2003., Petal Gas Storage, L.L.C., (Petal) tendered for filing as part of its FERC Gas Tariff, Original Volume No. 1, Sixth Revised Sheet No. 100, First Revised Sheet No. 140 and Sheet Nos. 141—199, with an effective date of March 1, 2003.

Petal states that the revised tariff sheets are being filed to modify Petal's tariff to provide for a general waiver of the “shipper must have title” rule in the event that Petal is transporting or storing gas for others on acquired off-system capacity and to include a general statement that Petal will only transport or store gas for others using off-system capacity pursuant to its existing tariff and rates.

Petal states that copies of the filing have been mailed to all affected customers and state regulatory commissions.

Any person desiring to be heard or to protest said filing should file a motion to intervene or a protest with the Federal Energy Regulatory Commission, 888 First Street, NE., Washington, DC 20426, in accordance with sections 385.314 or 385.211 of the Commission's rules and regulations. All such motions or protests must be filed on or before the comment date. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: February 18, 2003.

Magalie R. Salas,
Secretary.

[FR Doc. 03-3800 Filed 2-14-03; 8:45 am]

BILLING CODE 6717-01-P